DEPARTMENT OF HEALTH AND HUMAN SERVICES

Substance Abuse and Mental Health Services Administration

Notice of Intent To Issue a Notice of Funding Availability for Cooperative Agreements for Addiction Technology Transfer Center (ATTC) Sites and an ATTC National Office

AGENCY: Center for Substance Abuse Treatment (CSAT), Substance Abuse and Mental Health Services Administration (SAMHSA), DHHS.

ACTION: Notification of SAMHSA/CSAT's intent to announce the availability of FY 2002 funds for cooperative agreements for seven ATTC sites and an ATTC National Office.

SUMMARY: This notice is to inform the public of SAMHSA/CSAT's intention to issue a Notice of Funding Availability in late October or early November, to announce the availability of FY 2002 funds for cooperative agreements to support 7 ATTC sites to cover 7 ATTC Regions and an ATTC National Office. CSAT's ATTC program is comprised of 14 ATTC Regions and an ATTC National Office that together form a network which, individually and collaboratively, provides academic, continuing education, professional development and practicum training to professionals/providers in the substance abuse treatment field. The ATTC National Office coordinates all cross-site and multi-site activities of the 14 ATTC regions.

In FY 2001, awards were made to sites to cover 7 of the 14 ATTC Regions. In FY 2002, it is SAMHSA/CSAT's intent to solicit applications for an ATTC National Office and for coverage of the following currently uncovered 7 ATTC Regions:

Region 5: Georgia and South Carolina;

Region 7: Puerto Rico and U.S. Virgin Islands;

Region 8: Missouri, Kansas, Oklahoma, and Arkansas;

Region 9: Iowa, Nebraska, North Dakota, South Dakota, and Minnesota;

Region 10: Illinois, Indiana, Ohio, Wisconsin, and Michigan;

Region 13: California, New Mexico, Arizona, and Colorado (criminal justice); and

Region 14: Florida and Alabama.

Questions related to CSAT's ATTC program should be directed to Susanne Rohrer, RN, Office of Evaluation, Scientific Analysis, and Synthesis, CSAT, Rockwall II, Suite 840, 5600 Fishers Lane, Rockville, MD 20857; telephone (301) 443-8521; e-mail srohrer@samhsa.gov.

Dated: October 28, 2001.
Richard Kopanda,
Executive Officer, SAMHSA.

[FR Doc. 01-27521 Filed 11-1-01; 8:45 am]

BILLING CODE 4162-20-P